DEPARTMENT OF THE TREASURY

Submission for OMB Review; Comment Request

June 3, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before July 15, 2004 to be assured of consideration.

Internal Revenue Service (IRS)

OMB Number: 1545-0191.

Form Number: IRS Form 4952.

Type of Review: Revision.

Title: Investment Interest Expense Deduction.

Description: Form 4952 is used by taxpayers who paid or accrued interest on money borrowed to purchase or carry investment property. The form is used to compute the allowable deduction for interest on investment indebtedness and the information obtained is necessary to verify the amount actually deducted.

Respondents: Individuals or households, Business or other for-profit.

Estimated Number of Respondents/Recordkeepers: 800,000.

Estimated Burden Hours Respondent/Recordkeeper:

Recordkeeping | 39 min.
Learning about the law or the form | 12 min.
Preparing the form | 24 min.
Copying, assembling, and sending the form to the IRS | 13 min.

Frequency of response: Annually.

Estimated Total Reporting/Recordkeeping Burden: 2,700,000 hours.

OMB Number: 1545-0199.

Form Number: IRS Form 5306-A.

Type of Review: Revision.

Title: Application for Approval of Prototype Simplified Employee Pension (SEP) or Savings Incentive Match Plan for Employees of Small Employers (SIMPLE IRA Plan).

Description: This form is used by banks, credit unions, insurance companies, and trade or professional associations to apply for approval of a Simplified Employee Pension Plan or Savings Incentive Match Plan to be used by more than one employer. The data collected is used to determine if the prototype plan submitted is an approved plan.

Respondents: Business or other for-profit.

Estimated Number of Respondents/Recordkeepers: 5,000.

Estimated Burden Hours Respondent/Recordkeeper:

Recordkeeping | 15 hr., 46 min.
Learning about the law or the form | 1 hr., 23 min.
Preparing, copying, assembling, and sending the form to the IRS | 1 hr., 42 min.

Frequency of response: On occasion.

Estimated Total Reporting/Recordkeeping Burden: 94,400 hours.

OMB Number: 1545-0409.

Form Number: IRS Forms 211/211(SP).

Type of Review: Extension.

Title: Form 211: Application for Reward for Original Information; and Form 211(SP): Solicitud de Recompensa por Informacion Original (Spanish Version).

Description: Forms 211/211(SP) are the official application forms used by persons requesting rewards for submitting information concerning alleged violations of the tax laws by other persons. Such rewards are authorized by Internal Revenue Code (IRC) 7623. The data is used to determine and pay rewards to those persons who voluntarily submit information.

Respondents: Individuals or households.

Estimated Number of Respondents: 11,200.

Estimated Burden Hours Respondent: 15 minutes.

Frequency of response: On occasion.

Estimated Total Reporting Burden: 2,800 hours.

OMB Number: 1545-0800.

Regulation Project Number: Reg. 601.601.

Type of Review: Extension.

Title: Rules and Regulations.

Description: Persons wishing to speak at a public hearing on a proposed rule must submit written comments and an outline within prescribed time limits, for use in preparing agendas and allocating time. Persons interested in the issuance, amendment, or repeal of a rule may submit a petition for this. IRS considers the petitions in its deliberations.

Respondents: Business or other for-profit, Individuals or households, Not-for-profit institutions, Farms, Federal Government, State, local or tribal government.

Estimated Number of Respondents: 600.

Estimated Burden Hours Respondent: 1 hour, 30minutes.

Frequency of response: On occasion.

Estimated Total Reporting Burden: 900 hours.

OMB Number: 1545-0982.

Regulation Project Number: LR-77-86 Final (TD 8124).

Type of Review: Extension.

Title: Certain Elections under the Tax Reform Act of 1986.

Description: These regulations establish various elections with respect to which interim guidance on the time and manner of making the election is necessary. These regulations enable taxpayers to take advantage of the benefits of various Code provisions.

Respondents: Business or other for-profit, Individuals or households, Not-for-profit institutions, Farms, State, local or tribal government.

Estimated Number of Respondents: 114,710.

Estimated Burden Hours Respondent: 15 minutes.

Estimated Total Reporting Burden: 28,678 hours.

OMB Number: 1545-1331.

Regulation Project Number: PS-55-89 Final.

Type of Review: Extension.

Title: General Asset Accounts under the Accelerated Cost Recovery System.

Description: The regulations describe the time and manner of making the election described in Internal Revenue Code (IRC) section 168(i)(4). Basic information regarding this election.

Respondents: Business or other for-profit.

Estimated Number of Respondents: 1,000.

Estimated Burden Hours Respondent: 15 minutes.

Frequency of response: Annually.

Estimated Total Reporting Burden: 250 hours.

OMB Number: 1545-1413.

Regulation Project Number: IA-30-95 Final.

Type of Review: Extension.

Title: Reporting of Nonpayroll Withheld Tax Liabilities.

Description: These regulations concern the Secretary's authority to require a return of tax under section 6011 and provide for the requirement of a return by persons deducting and withholding income tax from “Nonpayroll” payments.

Respondents: Business or other for-profit, Individuals or households, Not-for-profit institutions, Farms, Federal Government, State, local or tribal government.

Estimated Number of Respondents: 1.

Estimated Burden Hours Respondent: 1 hour.

Estimated Total Reporting Burden: 1 hour.

OMB Number: 1545-1600.

Regulation Project Number: REG-251703-96 Final.

Type of Review: Extension.

Title: Residence of Trusts and Estates—7701.

Description: This regulation provides the procedure and requirements for making the election to remain a domestic trust.

Respondents: Individuals or households.

Estimated Number of Respondents: 222.

Estimated Burden Hours Respondent: 31 minutes.

Frequency of response: Other (one time).

Estimated Total Reporting Burden: 114 hours.

Clearance Officer: Glenn P. Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-13401 Filed 6-14-04; 8:45 am]

BILLING CODE 4830-01-P